COMMITTEE FOR PURCHASE FROM PEOPLE WHO ARE BLIND OR SEVERELY DISABLED

Procurement List Proposed Additions and Deletions

AGENCY: Committee for Purchase From People Who Are Blind or Severely Disabled.

ACTION: Proposed Additions to and Deletions From the Procurement List.

SUMMARY: The Committee is proposing to add products and a service to the Procurement List that will be furnished by nonprofit agencies employing persons who are blind or have other severe disabilities, and deletes products previously furnished by such agencies.

Comments Must Be Received On or Before: 4/1/2013.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Portable Desktop Clipboard, 9½″ W x 1½″ D x 13½″ H

NSN: 7510-00-NIB-2133—Black

NSN: 7510-00-NIB-9835—Blue

NSN: 7510-00-NIB-9836—Army Green

NPA: L.C. Industries for the Blind, Inc., Durham, NC

Contracting Activity: General Services Administration, New York, NY

Coverage: A-List for the Total Government Requirement as aggregated by the General Services Administration.

NSN: MR 318—Set, Mixing Bowl, Spill-Free, 3PC

NPA: Industries for the Blind, Inc., West Allis, WI

Contracting Activity: Defense Commissary Agency, Fort Lee, VA

Coverage: C-List for the requirements of military commissaries and exchanges as aggregated by the Defense Commissary Agency.

Shirt, Sleeping

NSN: 8415-00-890-2099

NSN: 8415-00-890-2100

NSN: 8415-00-890-2101

NSN: 8415-00-890-2102

NSN: 8415-00-890-2103

NSN: 8415-00-935-6855

NPA: Mount Rogers Community Services Board, Wytheville, VA

Contracting Activity: Defense Logistics Agency Troop Support, Philadelphia, PA

Coverage: C-List for 100% of the requirement of the U.S. Army, as aggregated by the Defense Logistics Agency Troop Support, Philadelphia, PA.

Service

Service Type/Location: Full Food Service, Naval Special Warfare Development Group, Virginia Beach, VA.

NPA: Goodwill Industries of Lower South Carolina, Inc., North Charleston, SC

Contracting Activity: U.S. Special Operations Command (USSOCOM), Naval SPEC Warfare Development GRP, Virginia Beach, VA

Deletions

The following products are proposed for deletion from the Procurement List:

Products

Handle, Mop

NSN: 7920-00-246-0930

NPA: Industries of the Blind, Inc., Greensboro, NC

Contracting Activity: General Services Administration, Fort Worth, TX

Sponge, Surgical, Gauze, Compressed

NSN: 6510-00-926-9082

NPA: Elwyn, Inc., Aston, PA

Contracting Activity: Defense Logistics Agency Troop Support, Philadelphia, PA

Barry S. Lineback,
Director, Business Operations.

[FR Doc. 2013-04769 Filed 2-28-13; 8:45 am]

BILLING CODE 6353-01-P